DEPARTMENT OF THE INTERIOR

U.S. Geological Survey

[GX155EE000101000]

Agency Information Collection Activities: Request for Comments

AGENCY: U.S. Geological Survey (USGS), Interior.

ACTION: Notice of a new information collection, Doug D. Nebert NSDI Champion of the Year Award.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before November 9, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference “Information Collection 1028—NEW, Doug D. Nebert NSDI Champion of the Year Award” in all correspondence.

FOR FURTHER INFORMATION CONTACT: Brigitta Urban-Mathieux, Federal Geographic Data Committee Office of the Secretariat, U.S. Geological Survey, at (703) 648-5175 or burbanma@usgs.gov.

SUPPLEMENTARY INFORMATION:

I. Abstract

The Doug D. Nebert NSDI Champion of the Year Award honors a respected colleague, technical visionary, and recognized national leader in the establishment of spatial data infrastructures that significantly enhance the understanding of our physical and cultural world. The award is sponsored by the Federal Geographic Data Committee (FGDC) and its purpose is to recognize an individual or a team representing Federal, State, Tribal, regional, and (or) local government, academia, or non-profit and professional organization that has developed an outstanding, innovative, and operational tool, application, or service capability used by multiple organizations that furthers the vision of the National Spatial Data Infrastructure (NSDI).

National nominations are accepted from the public and private sector individuals, teams, organizations, and professional societies. Nomination packages include three sections: (A) Cover Sheet, (B) Summary Statement, and (C) Supplemental Materials. The cover sheet includes professional contact information. The Summary Statement is limited to two pages and describes the nominee's achievements in the development of an outstanding, innovative, and operational tool, application, or service capability that directly supports the spatial data infrastructures. Nominations may include up to 10 pages of supplemental information such as resume, publications list, and/or letters of endorsement. The award consists of a citation and plaque, which are presented to the recipient at an appropriate public forum by the FGDC Chair. The name of the recipient is also inscribed on a permanent plaque, which are displayed by the FGDC.

II. Data

OMB Control Number: 1028—NEW.

Title: Doug D. Nebert NSDI Champion of the Year Award.

Type of Request: New information collection.

Affected Public: Personnel from Federal, State, Local, and Tribal governments; Private Sector; Academia; and Non-profit organizations.

Respondent's Obligation: None. Participation is voluntary.

Frequency of Collection: This is an annual offer.

Estimated Annual Number of Respondents: 10.

Estimated Total Number of Annual Responses: 10.

Estimated Time per Response: 10 hours.

Estimated Annual Burden Hours: 100 hours.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Ivan DeLoatch,
Executive Director, Federal Geographic Data Committee, Core Science Systems.

[FR Doc. 2015-22642 Filed 9-8-15; 8:45 am]

BILLING CODE 4311-AM-P